ENVIRONMENTAL PROTECTION AGENCY

40 CFR Part 84

[EPA-HQ-OAR-2021-0643; FRL-11739-03-OAR]

Phasedown of Hydrofluorocarbons: Restrictions on the Use of HFCs Under the AIM Act in Variable Refrigerant Flow Air Conditioning Subsector; Reopening the Comment Period

AGENCY: Environmental Protection Agency (EPA).

ACTION: Proposed rule; reopening the comment period.

SUMMARY: On June 26, 2024, EPA published a proposed rule titled, Phasedown of Hydrofluorocarbons: Restrictions on the Use of Hydrofluorocarbons under the American Innovation and Manufacturing Act in Variable Refrigerant Flow Air Conditioning Subsector, to allow one additional year for the installation of certain residential and light commercial air conditioning and heat pump variable refrigerant flow systems. The proposed rule did not include notice that the Agency would hold a public hearing if one were requested. This notice reopens the comment period specifically to provide an opportunity to request a public hearing on this rulemaking if one is desired.

DATES: The comment period for the proposed rule published on June 26, 2024, at 89 FR 53373, is reopened to allow for the opportunity to request a public hearing. To request a public hearing, please submit a comment per the instructions in the ADDRESSES section. If requested, EPA will hold a virtual public hearing on August 19, 2024. See SUPPLEMENTARY INFORMATION for information on requesting and registering for a public hearing.

If no public hearing is requested, the comment period will close on August 27, 2024. If a public hearing is requested, the comment period will close on September 26, 2024.

ADDRESSES: You may send comments, identified by docket identification number EPA-HQ-OAR-2021-0643, by any of the following methods:

• Federal eRulemaking Portal: https://www.regulations.gov (our preferred method). Follow the online instructions for submitting comments.

• Email: a-and-r-docket@epa.gov. Include Docket ID No. EPA-HQ-OAR-2021-0643 in the subject line of the message.

• Mail: U.S. Environmental Protection Agency, EPA Docket Center, Air and Radiation Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID number for this rulemaking. Comments received may be posted without change to https://www.regulations.gov, including any personal information provided.

Do not submit any information you consider to be Confidential Business Information (CBI) through https://www.regulations.gov. For submission of confidential comments, please work with the person listed in the FOR FURTHER INFORMATION CONTACT section. For additional submission methods, the full EPA public comment policy, information about CBI or multimedia submissions, and general guidance on making effective comments, please visit https://www.epa.gov/dockets/commenting-epa-dockets.

FOR FURTHER INFORMATION CONTACT: For questions about this notice, contact Joshua Silver, Stratospheric Protection Division, Office of Atmospheric Protection (Mail Code 6205A), Environmental Protection Agency, 1200 Pennsylvania Ave. NW, Washington, DC 20460; telephone number: 202-564-2473; email address: silver.joshua@epa.gov. You may also visit EPA's website at https://www.epa.gov/climate-hfcs-reduction for further information.

SUPPLEMENTARY INFORMATION: The EPA is reopening the public comment period established in the Federal Register document of June 26, 2024 (89 FR 53373), in order to provide an opportunity for the public to request a public hearing. The original public comment period for the proposed rule closed on July 26, 2024. The EPA did not receive a request for a public hearing or to reopen the comment period but, per the notice requirements of AIM Act subsection (k)(1)(C) and CAA section 307(d)(5), EPA is offering this opportunity to request a public hearing. The comments the EPA has received were supportive of extending the compliance date for installations of VRF systems and previously provided comments do not need to be resubmitted. Oral comments will be weighed equally to written comments.

If a public hearing is requested and held, the comment period will remain open, as required by CAA section 307(d)(5), until September 26, 2024. If a public hearing is not requested, the comment period will close August 27, 2024. The EPA does not intend to issue an additional notification in the Federal Register announcing updates about the public hearing or the close of this additional comment period. Updates will instead be posted at https://www.epa.gov/climate-hfcs-reduction/regulatory-actions-technology-transitions.

Participation in a virtual public hearing. To request a virtual public hearing, please submit that request as a comment per the instructions described in the ADDRESSES section. If requested, the virtual public hearing will be held on August 27, 2024. The EPA may close the hearing 15 minutes after the last pre-registered speaker has testified if there are no additional speakers.

If a public hearing is requested, the EPA will begin pre-registering speakers for the hearing no later than 1 business day after a request has been received. To register to speak at the virtual hearing, please notify the person listed in the FOR FURTHER INFORMATION CONTACT section by email. The last day to pre-register to speak at the hearing will be August 26, 2024.

Each commenter will have 4 minutes to provide oral testimony. The EPA encourages commenters to provide the EPA with a copy of their oral testimony electronically by submitting the text of oral testimony as written comments to the rulemaking docket. The EPA may ask clarifying questions during the oral presentations but will not respond to the presentations at that time. Written statements and supporting information submitted during the comment period will be considered with the same weight as oral testimony and supporting information presented at the public hearing.

If you require the services of a translator or special accommodation such as audio description, please pre-register for the hearing and describe your needs by August 19, 2024. The EPA may not be able to arrange accommodations without advanced notice.

Docket. The EPA has established a docket for the associated rulemaking under Docket ID No. EPA-HQ-OAR-2021-0643. All documents in the docket are listed in https://www.regulations.gov. Although listed, some information is not publicly available, e.g., CBI or other information whose disclosure is restricted by statute. Certain other material, such as copyrighted material, is not placed on the internet and will be publicly available only as pdf versions that can only be accessed on the EPA computers in the docket office reading room. Certain databases and physical items cannot be downloaded from the docket but may be requested by contacting the docket office at 202-566-1744. The docket office has up to 10 business days to respond to these requests. With the exception of such material, publicly available docket materials are available electronically in https://www.regulations.gov.

Joesph Goffman,
Assistant Administrator.

[FR Doc. 2024-17751 Filed 8-9-24; 8:45 am]

BILLING CODE 6560-50-P